DEPARTMENT OF THE INTERIOR

National Park Service

[N6652; NPS-WASO-NAGPRA-NPS0041385; PPWOCRADN0-PCU00RP14.R50000]

Notice of Inventory Completion: New Mexico Junior College, Hobbs, NM

AGENCY: National Park Service, Interior.

ACTION: Notice.

SUMMARY: In accordance with the Native American Graves Protection and Repatriation Act (NAGPRA), the New Mexico Junior College has completed an inventory of human remains and has determined that there is no lineal descendant and no Indian Tribe or Native Hawaiian organization with cultural affiliation.

DATES: Upon request, repatriation of the human remains in this notice may occur on or after January 16, 2026.

ADDRESSES: Send written requests for repatriation of the human remains in this notice to Ben Kimball, New Mexico Junior College, 1 Thunderbird Circle, Hobbs, NM 88240, email bkimball@nmjc.edu.

SUPPLEMENTARY INFORMATION: This notice is published as part of the National Park Service's administrative responsibilities under NAGPRA. The determinations in this notice are the sole responsibility of the New Mexico Junior College, and additional information on the determinations in this notice, including the results of consultation, can be found in its inventory or related records. The National Park Service is not responsible for the determinations in this notice.

Abstract of Information Available

Human remains representing, at least, one individual have been identified. No associated funerary objects are present. While surveying New Mexico Junior College departments for all NAGPRA-related material in June of 2024, an individual was located in the Arts and Sciences Department. Records indicate the individual was acquired from the Carolina Biological Supply Company in the late 1970s to early 1980s. No geographic location information about this individual is available. New Mexico Junior College has no knowledge or record of any potentially hazardous substances used to treat the human remains.

Consultation

Invitations to consult were sent to the Apache Tribe of Oklahoma; Comanche Nation, Oklahoma; Fort McDowell Yavapai Nation, Arizona; Fort Sill Apache Tribe of Oklahoma; Hopi Tribe of Arizona; Jicarilla Apache Nation, New Mexico; Kiowa Indian Tribe of Oklahoma; Mescalero Apache Tribe of the Mescalero Reservation, New Mexico; Ohkay Owingeh, New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; San Carlos Apache Tribe of the San Carlos Reservation, Arizona; Santo Domingo Pueblo; Tonto Apache Tribe of Arizona; White Mountain Apache Tribe of the Fort Apache Reservation, Arizona; Yavapai-Apache Nation of the Camp Verde Indian Reservation, Arizona; Ysleta del Sur Pueblo; and the Zuni Tribe of the Zuni Reservation, New Mexico. In May of 2025, New Mexico Junior College conducted outreach phone calls, and the following Tribes provided guidance: Pueblo of Acoma, New Mexico; Pueblo of San Ildefonso, New Mexico; Pueblo of Santa Clara, New Mexico; and the Pueblo of Zia, New Mexico.

Cultural Affiliation

The following types of information about the cultural affiliation of the human remains in this notice are available: biological. The information, including the results of consultation, identified:

1. No earlier group connected to the human remains.

2. No Indian Tribe or Native Hawaiian organization is connected to the human remains.

3. No relationship of shared group identity between the earlier group and the Indian Tribe or Native Hawaiian organization can be reasonably traced through time.

Determinations

The New Mexico Junior College has determined that:

• The human remains described in this notice represent the physical remains of one individual of Native American ancestry.

• No known lineal descendant who can trace ancestry to the human remains in this notice has been identified.

• No Indian Tribe or Native Hawaiian organization with cultural affiliation to the human remains described in this notice has been clearly or reasonably identified.

Requests for Repatriation

Written requests for repatriation of the human remains in this notice must be sent to the authorized representative identified in this notice under ADDRESSES. Requests for repatriation may be submitted by any lineal descendant, Indian Tribe, or Native Hawaiian organization who shows, by a preponderance of the evidence, that the requester is a lineal descendant or an Indian Tribe or Native Hawaiian organization with cultural affiliation.

Upon request, repatriation of the human remains described in this notice to a requestor may occur on or after January 16, 2026. If competing requests for repatriation are received, the New Mexico Junior College must determine the most appropriate requestor prior to repatriation. Requests for joint repatriation of the human remains are considered a single request and not competing requests. The New Mexico Junior College is responsible for sending a copy of this notice to the Indian Tribes or Native Hawaiian organizations identified in this notice.

Authority: Native American Graves Protection and Repatriation Act, 25 U.S.C. 3003, and the implementing regulations, 43 CFR 10.10.

Dated: November 20, 2025.
Melanie O'Brien,
Manager, National NAGPRA Program.

[FR Doc. 2025-22997 Filed 12-16-25; 8:45 am]

BILLING CODE 4312-52-P